DEPARTMENT OF EDUCATION

34 CFR Chapter VI

[Docket ID ED-2018-OPE-0076]

RIN 1840-AD36, 1840-AD37, 1840-AD38, 1840-AD40, and 1840-AD44

Negotiated Rulemaking Committee; Location of Negotiations and Subcommittee Meetings—Accreditation and Innovation

AGENCY: Office of Postsecondary Education, Department of Education.

ACTION: Notification of revised schedule of negotiated rulemaking committee meetings.

SUMMARY: On October 15, 2018, we announced our intention to establish a negotiated rulemaking committee to prepare proposed regulations for the Federal Student Aid programs authorized under title IV of the Higher Education Act of 1965, as amended (HEA). We also announced the schedule for the committee and the three topic-based subcommittee meetings. In this notification, we announce changes to the meeting times for the third session of the Accreditation and Innovation Committee's negotiated rulemaking and the addition of a fourth session of negotiations.

DATES: The dates, times, and location of the third and fourth sessions are set out in the Revised Schedule for Negotiation Sessions section under SUPPLEMENTARY INFORMATION.

FOR FURTHER INFORMATION CONTACT: For information about the content of this document, including information about the negotiated rulemaking process or the revised schedule, contact: George Alan Smith, U.S. Department of Education, 400 Maryland Ave. SW, Room 294-34, Washington, DC 20202. Telephone: (202) 453-7757. Email: george.alan.smith@ed.gov.

For more information about negotiated rulemaking in general, see The Negotiated Rulemaking Process for Title IV Regulations, Frequently Asked Questions at https://www2.ed.gov/policy/highered/reg/hearulemaking/hea08/neg-reg-faq.html, or contact George Alan Smith, U.S. Department of Education, 400 Maryland Ave. SW, Room 294-34, Washington, DC 20202. Telephone: (202) 453-7757. Email: george.alan.smith@ed.gov.

If you use a telecommunications device for the deaf (TDD) or text telephone (TTY), call the Federal Relay Service (FRS), toll free, at 1-800-877-8339.

SUPPLEMENTARY INFORMATION: On October 15, 2018, we published in the Federal Register (83 FR 51906) an announcement of our intent to establish an Accreditation and Innovation negotiated rulemaking committee and three topic-based subcommittees. In that document, we set a schedule for three sessions of committee meetings; three sessions for each of the topic-based subcommittee meetings; and requested nominations for individual negotiators who represent key stakeholder constituencies for the issues to be negotiated to serve on the committee and subcommittees.

Inclement weather during the first two negotiation sessions of the Accreditation and Innovation Committee caused meeting delays and cancellations. As a result, committee members requested more time for deliberations during their February 15, 2019 meeting. To accommodate this request, the Department has extended the meeting times of the third session dates and added a fourth session of negotiations.

Revised Schedule for Negotiation Sessions: The Accreditation and Innovation Committee's third session will still occur March 25-28, 2019, but with extended meeting times; and the additional fourth session will occur April 1-3, 2019.

Session 3: The March 25-27, 2019 meetings will run from 8:00 a.m. to 6:00 p.m., and the March 28, 2019 meeting will run from 8:00 a.m.to 5:00 p.m.

Session 4: The April 1 and 2, 2019 meetings will run from 8:00 a.m. to 6:00 p.m., and the April 3, 2019 meeting will run from 8:00 a.m. to 3:00 p.m.

All meetings of both sessions will be held in Barnard Auditorium, U.S. Department of Education, 400 Maryland Ave. SW, Washington, DC 20202. The meetings are open to the public.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Dated: March 19, 2019.
Diane Auer Jones,
Principal Deputy Under Secretary Delegated to Perform the Duties of Under Secretary and Assistant Secretary for the Office of Postsecondary Education.

[FR Doc. 2019-05625 Filed 3-20-19; 4:15 pm]

BILLING CODE 4000-01-P